DEPARTMENT OF THE INTERIOR

Fish and Wildlife Service

AGENCY: Fish and Wildlife Service, Interior.

ACTION: Notice of meeting.

SUMMARY: Pursuant to section 10(a)(2) of the Federal Advisory Committee Act (5 U.S.C. App. I), this notice announces a meeting of the Klamath Fishery Management Council, established under the authority of the Klamath River Basin Fishery Resources Restoration Act (16 U.S.C. 460ss et seq.). The Klamath Fishery Management Council makes recommendations to agencies that regulate harvest of anadromous fish in the Klamath River Basin. The objectives of this meeting are to hear technical reports, to discuss and develop Klamath fall chinook salmon harvest management options for the 2000 season, and to make recommendations to the Pacific Fishery Management Council and other agencies. The meeting is open to the public.

DATES: The Klamath Fishery Management Council will meet from 1:00 p.m. to 5:00 p.m. on Sunday, March 5, 2000.

PLACE: The meeting will be held at the Red Lion's Sacramento Inn, 1401 Arden Way, Sacramento, California.

FOR FURTHER INFORMATION CONTACT: Dr. Ronald A. Iverson, Project Leader, U.S. Fish and Wildlife Service, PO Box 1006 (1215 South Main), Yreka, California 96097-1006, telephone (530) 842-5763.

SUPPLEMENTARY INFORMATION: At the March 5, 2000 meeting, the Klamath Fishery Management Council may schedule short follow-up meetings to be held between March 6, 2000 and March 8, 2000 at the Red Lion's Sacramento Inn, 1401 Arden Way, Sacramento, California, where the Pacific Fishery Management Council will be meeting.

For background information on the Klamath Council, please refer to the notice of their initial meeting that appeared in the Federal Register on July 8, 1987 (52 FR 25639).

Dated: February 7, 2000.
Elizabeth H. Stevens,
Acting Manager, California/Nevada Operations.

[FR Doc. 00-3668 Filed 2-15-00; 8:45 am]

BILLING CODE 4310-55-U